OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the listing below are the individual authorities established under Schedules A, B, and C between July 1, 2011, and July 31, 2011. These notices are published monthly in the Federal Register at http://www.gpoaccess.gov/fr/. A consolidated listing of all authorities as of June 30 is also published each year. The following Schedules are not codified in the Code of Federal Regulations. These are agency-specific exceptions.

Schedule A

No Schedule A authorities to report during July 2011.

Schedule B

No Schedule B authorities to report during July 2011.

Schedule C

The following Schedule C appointments were approved during July 2011.

Agency name | Organization name | Position title | Authorization number | Effective date
DEPARTMENT OF AGRICULTURE | Office of the Assistant Secretary for Congressional Relations | Staff Assistant | DA110105 | 7/13/2011
| Office of the Deputy Secretary | Special Assistant | DA110109 | 7/13/2011
| Office of the Under Secretary Farm and Foreign Agricultural Service | Special Assistant | DA110113 | 7/14/2011
| Food and Nutrition Service | Chief of Staff | DA110110 | 7/14/2011
DEPARTMENT OF COMMERCE | Office of Business Liaison | Special Assistant | DC110107 | 7/26/2011
| National Oceanic and Atmospheric Administration | Deputy Director, Office of Legislative Affairs | DC110104 | 7/13/2011
| National Oceanic and Atmospheric Administration | Special Assistant | DC110096 | 7/6/2011
COUNCIL ON ENVIRONMENTAL QUALITY | Council on Environmental Quality | Special Assistant (Energy/Climate Change) | EQ110006 | 7/20/2011
DEPARTMENT OF DEFENSE | Office of the General Counsel | Attorney-Advisor (General) | DD110104 | 7/29/2011
| Washington Headquarters Services | Staff Assistant | DD110112 | 7/20/2011
DEPARTMENT OF THE ARMY | Office of the Assistant Secretary Army (Acquisition, Logistics and Technology) | Special Assistant (Acquisition, Logistics and Technology) | DW110047 | 7/1/2011
| Office Assistant Secretary Army (Manpower and Reserve Affairs) | Special Assistant (Manpower and Reserve Affairs) | DW110048 | 7/13/2011
DEPARTMENT OF THE NAVY | Office of the Under Secretary of the Navy | Director, Strategic Communications | DN110038 | 7/22/2011
DEPARTMENT OF EDUCATION | Office of Postsecondary Education | Confidential Assistant | DB110099 | 7/14/2011
| Office of the Secretary | Confidential Assistant | DB110100 | 7/22/2011
| Office of the Deputy Secretary | Director of Policy and Program Implementation | DB110093 | 7/6/2011
| Office of Communications and Outreach | Confidential Assistant | DB110104 | 7/22/2011
| Office of the Secretary | Confidential Assistant | DB110107 | 7/29/2011
| Office of the Secretary | Confidential Assistant | DB110096 | 7/6/2011
| Office of the Secretary | Confidential Assistant | DB110097 | 7/6/2011
DEPARTMENT OF ENERGY | Office of Science | Special Assistant | DE110106 | 7/20/2011
| Office of Management | Lead Advance Representative | DE110120 | 7/12/2011
| Office of the Deputy Secretary | Senior Advisor | DE110123 | 7/19/2011
ENVIRONMENTAL PROTECTION AGENCY | Office of the Administrator | Director of Scheduling and Advance | EP110042 | 7/13/2011
FEDERAL ENERGY REGULATORY COMMISSION | Office of the Chairman | Program Analyst | DR110007 | 7/11/2011
DEPARTMENT OF HEALTH AND HUMAN SERVICES | Office of the Secretary | Special Assistant | DH110113 | 7/22/2011
| Office of the Secretary | Director of Scheduling and Advance | DH110120 | 7/22/2011
| Office of Intergovernmental and External Affairs | Director, Office of External Affairs | DH110115 | 7/22/2011
| Office of Intergovernmental and External Affairs | Confidential Assistant | DH110116 | 7/22/2011
| Office of Intergovernmental and External Affairs | Deputy Director, Office of Intergovernmental and External Affairs | DH110119 | 7/22/2011
| Office of the Assistant Secretary for Children and Families | Senior Advisor | DH110111 | 7/22/2011
| Office of Public Affairs | Special Assistant | DH110110 | 7/6/2011
| Office of the Assistant Secretary for Health | Confidential Assistant | DH110112 | 7/12/2011
DEPARTMENT OF HOMELAND SECURITY | U.S. Customs and Border Protection | Assistant Commissioner for Public Affairs | DM110222 | 7/14/2011
| Office of the Assistant Secretary for Intergovernmental Affairs | State and Local Coordinator | DM110224 | 7/14/2011
DEPARTMENT OF HOUSING AND URBAN DEVELOPMENT | Office of the Secretary | Special Policy Advisor | DU110023 | 7/8/2011
| Office of Public Affairs | Deputy Press Secretary | DU110030 | 7/29/2011
DEPARTMENT OF THE INTERIOR | Secretary's Immediate Office | Press Secretary | DI110073 | 7/15/2011
DEPARTMENT OF JUSTICE | Environment and Natural Resources Division | Counsel | DJ110105 | 7/29/2011
| Antitrust Division | Senior Counsel | DJ110093 | 7/6/2011
| Executive Office for United States Attorneys | Counsel | DJ110098 | 7/8/2011
| Civil Rights Division | Counsel | DJ110103 | 7/19/2011
DEPARTMENT OF LABOR | Office of the Deputy Secretary | Policy Advisor | DL110029 | 7/13/2011
NATIONAL AERONAUTICS AND SPACE ADMINISTRATION | Office of the Administrator | Senior Advisor | NN110053 | 7/6/2011
OFFICE OF MANAGEMENT AND BUDGET | Office of the Director | Confidential Assistant | BO110027 | 7/19/2011
SECURITIES AND EXCHANGE COMMISSION | Division of Corporation Finance | Managing Executive | SE110006 | 7/22/2011
| Office of Compliance Inspections and Examinations | Confidential Assistant | SE110007 | 7/22/2011
SMALL BUSINESS ADMINISTRATION | Office of Native American Affairs | Assistant Administrator for Native American Affairs | SB110034 | 7/15/2011
| Office of Government Contracting and Business Development | Special Advisor for Government Contracting and Business Development | SB110039 | 7/28/2011
| Office of Congressional and Legislative Affairs | Deputy Assistant Administrator for Congressional and Legislative Affairs | SB110040 | 7/29/2011
| Office of the Administrator | Senior Advisor | SB110041 | 7/29/2011
DEPARTMENT OF STATE | Foreign Policy Planning Staff | Staff Assistant | DS110099 | 7/11/2011
| Office of the Chief of Protocol | Protocol Officer (Visits) | DS110100 | 7/11/2011
| Office of the Under Secretary for Democracy and Global Affairs | Special Adviser for Global Youth Issues | DS110097 | 7/1/2011
DEPARTMENT OF THE TREASURY | Under Secretary for International Affairs | Senior Advisor | DY110120 | 7/28/2011
| Assistant Secretary (Legislative Affairs) | Special Assistant | DY110116 | 7/22/2011

Authority: 5 U.S.C. 3301 and 3302; E.O. 10577, 3 CFR 1954-1958 Comp., p. 218.

U.S. Office of Personnel Management.
John Berry,
Director.

[FR Doc. 2011-26402 Filed 10-12-11; 8:45 am]

BILLING CODE 6325-39-P